DEPARTMENT OF THE TREASURY

Alcohol and Tobacco Tax and Trade Bureau

27 CFR Part 9

[Docket No. TTB-2015-0005; Notice No. 149]

RIN 1513-AC14

Proposed Establishment of the Lewis-Clark Valley Viticultural Area and Realignment of the Columbia Valley Viticultural Area

AGENCY: Alcohol and Tobacco Tax and Trade Bureau, Treasury.

ACTION: Notice of proposed rulemaking.

SUMMARY: The Alcohol and Tobacco Tax and Trade Bureau (TTB) proposes to establish the approximately 306,650-acre “Lewis-Clark Valley” viticultural area in portions of Nez Perce, Lewis, Clearwater and Latah Counties in Idaho and Asotin, Garfield, and Whitman Counties in Washington. TTB also proposes to modify the boundary of the existing Columbia Valley viticultural area to eliminate a potential overlap with the proposed Lewis-Clark Valley viticultural area. The proposed boundary modifications would decrease the size of the approximately 11,370,320-acre Columbia Valley viticultural area by approximately 57,020 acres. TTB designates viticultural areas to allow vintners to better describe the origin of their wines and to allow consumers to better identify wines they may purchase. TTB invites comments on these proposals.

DATES: TTB must receive your comments on or before June 15, 2015.

ADDRESSES: Please send your comments on this proposal to one of the following addresses:

• http://www.regulations.gov (via the online comment form for this document as posted within Docket No. TTB-2015-0005 at “Regulations.gov,” the Federal e-rulemaking portal);

• U.S. mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200E, Washington, DC 20005.

See the Public Participation section of this document for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated December 10, 2013, to the TTB Administrator to perform the functions and duties in the administration and enforcement of this law.

Part 4 of the TTB regulations (27 CFR part 4) authorizes the TTB to establish definitive viticultural areas and regulate the use of their names as appellations of origin on wine labels and in wine advertisements. Part 9 of the TTB regulations (27 CFR part 9) sets forth the standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA.

Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon; and

• A detailed narrative description of the proposed AVA boundary based on USGS map markings.

Petitions to modify the boundary of an existing AVA which would result in a decrease in the size of an existing AVA must include the following:

• An explanation of the extent to which the current AVA name does not apply to the excluded area;

• An explanation of how the distinguishing features of the excluded area are different from those within the boundary of the smaller AVA; and

• An explanation of how the boundary of the existing AVA was incorrectly or incompletely defined or is no longer accurate due to new evidence or changed circumstances.

Petition To Establish the Lewis-Clark Valley AVA and To Modify the Boundary of the Columbia Valley AVA

TTB received a petition from Dr. Alan Busacca, a licensed geologist and founder of Vinitas Consultants, LLC, on behalf of the Palouse-Lewis Clark Valley Wine Alliance and the Clearwater Economic Development Association. The petition proposed to establish the “Lewis-Clark Valley” AVA and to modify the boundary of the existing “Columbia Valley” AVA (27 CFR 9.74). The proposed Lewis-Clark Valley AVA is located at the confluence of the Snake River and the Clearwater River and covers portions of Nez Perce, Lewis, Clearwater, and Latah Counties in northern Idaho and Asotin, Garfield, and Whitman Counties in southeastern Washington.

The proposed Lewis-Clark Valley AVA contains approximately 306,650 acres and has 3 bonded wineries, as well as 16 vineyards containing more than 81 acres of grapes distributed across the proposed AVA. According to the petition, an additional 50 acres of grapes are expected to be planted in the next few years. The distinguishing features of the proposed viticultural area include its climate, topography, native vegetation, and soils. Unless otherwise noted, all information and data contained in the sections below are from the petition to establish the proposed Lewis-Clark Valley AVA and to modify the established Columbia Valley AVA.

A small portion of the proposed Lewis-Clark Valley AVA overlaps the southeastern corner of the established Columbia Valley AVA. The proposed Lewis-Clark Valley AVA does not overlap any other established AVA. To eliminate the potential overlap, the petitioner proposed to modify the boundary of the Columbia Valley AVA so that the overlapping area would be solely within the proposed Lewis-Clark Valley AVA. The proposed modifications would reduce the size of the approximately 11,370,320-acre Columbia Valley AVA boundary by approximately 57,020 acres. One vineyard, Arnett Vineyard, currently exists within the area of the proposed boundary modification. The vineyard owners have provided TTB with a letter supporting the establishment of the proposed Lewis-Clark Valley AVA and the proposed modification of the Columbia Valley AVA boundary.

Proposed Lewis-Clark Valley AVA

Name Evidence

The proposed Lewis-Clark Valley AVA derives its name from the two principle towns within the proposed AVA: Lewiston, Idaho, and Clarkston, Washington. The two towns, which face each other across the Snake River, were named in honor of Meriwether Lewis and William Clark, who traveled through the region of the proposed AVA during their famous expedition of 1804-1806. The petition included examples of schools, businesses, and organizations within the proposed AVA that bear the names of Lewis and Clark, including Lewis-Clark State College, Lewis-Clark Terminal at the Port of Clarkston, Lewis-Clark Moose Lodge 75, Lewis-Clark Metropolitan Appliance and TV Repair, Lewis-Clark Credit Union, Lewis-Clark Dental Clinic, and Lewis-Clark Auto Sales.

The petition also included evidence that the region of the proposed AVA is known as the “Lewis-Clark Valley.” For example, the Wikipedia entry for “Clarkston, Washington” states that the town is located “in the Lewis-Clark Valley at the confluence of the Snake and Clearwater rivers.” ¹ The Lewis Clark Valley Chamber of Commerce promotes tourism and economic development within the region of the proposed AVA. An organization called Valley Vision has as its mission the “[c]ontinuous improvement of the Lewis-Clark Valley's business climate * * * .” ² The Web site LC Today, which features news and activities in the Lewiston-Clarkston region, offers a listing of “60 Things To Do in the Lewis-Clark Valley.” ³ A Web site featuring real estate information for the region of the proposed AVA is called “Lewis-Clark Valley Homes.” ⁴ The telephone directory serving the region of the proposed AVA is called the “Lewis-Clark Valley Telephone Directory.” The Lewis-Clark Valley Metropolitan Planning Organization provides transportation project planning for the region. Finally, several organizations within the proposed AVA have the phrase “Lewis-Clark Valley” in their names, including the Lewis-Clark Valley Baptist Church, Family Promise of Lewis-Clark Valley, the La Leche League of the Lewis-Clark Valley, and the Boys & Girls Club of the Lewis-Clark Valley.

¹ http://en.wikipedia.org/wiki/Clarkston,_Washington.

² www.lewis-clarkvalley.org/about/our-mission.

³ www.lctoday.com/tourism/valleyactivities.htm.

⁴ www.lcvalleyhomes.com.

Boundary Evidence

The proposed Lewis-Clark Valley AVA consists mostly of canyon walls, low plateaus, and bench lands formed by the Snake and Clearwater Rivers. Approximately 98 percent of the proposed AVA's boundary follows the 600-meter elevation line, and all the land within the proposed AVA is below that elevation. The 600-meter elevation line was chosen because grapes do not reliably ripen annually above that elevation and, above that altitude, temperatures fall low enough to kill the varieties of Vitis vinifera (V. vinifera) grapes that are grown within the proposed AVA. TTB notes that the maps used to draw the proposed boundary show elevations in meters, and the petition describes the elevations within the proposed AVA and the surrounding regions in terms of feet. Six hundred meters corresponds to approximately 1,970 feet.

The regions outside the proposed AVA generally have higher elevations and colder temperatures than the proposed AVA. To the north of the proposed AVA is the high prairie region known as the Palouse. The heavily forested Bitterroot Mountains are located to the east of the proposed AVA boundary. The proposed southern boundary separates the proposed AVA from the Craig Mountains and from Hells Gate State Park, which is not available for commercial viticulture due to its protected status as an Idaho State park. Additionally, the southern boundary was drawn to prevent the proposed AVA from extending into Oregon, which is less than 5 miles from the southernmost proposed AVA boundary but is not considered to be part of the geographical region known as the Lewis-Clark Valley. To the west and southwest of the proposed AVA are the Blue Mountains.

Distinguishing Features

The distinguishing features of the proposed Lewis-Clark Valley AVA include its climate, topography, native vegetation, and soils.

Climate

Temperature: According to the petition, the temperate climate of the proposed Lewis-Clark Valley AVA is well suited for growing wine grapes, especially varieties of V. vinifera. The warm temperatures of the proposed AVA have earned the region the nickname “banana belt of the Pacific Northwest.” The table below, derived from information submitted in support of the petition, compares the average annual temperature and growing degree days ⁵ (GDDs) of the proposed Lewis-Clark Valley AVA and the surrounding regions. The data from the two weather stations within the proposed AVA and from the Moscow, Idaho, weather station, approximately 32 miles north of Lewiston, Idaho, was gathered during the period from 2000 to 2009. The data for the Bitterroot, Craig, and Blue Mountains consists of estimates calculated by the petitioner based on elevation, as there are no weather stations located within these regions.

⁵ As a measurement of heat accumulation during the grape-growing season, one degree day accumulates for each degree Fahrenheit that a day's mean temperature is above 50 degrees, which is the minimum temperature required for grapevine growth. In the Winkler climate classification system, heat accumulation as measured in growing degree days (GDDs) per year defines climatic regions. Climatic region I has less than 2,500 GDDs per year; region II, 2,501 to 3,000; region III, 3,001 to 3,500; region IV, 3,501 to 4,000; and region V, 4,001 or more. See Albert J. Winkler, General Viticulture (Berkeley: University of California Press, 1974), 61-64.

Location (direction from proposed AVA) | Average annual temperature (degrees fahrenheit) | Average growing season GDD accumulation
Lewiston Nez Perce weather station (within) | 53.4 | 3,036
Dworshak Fish Hatchery (within) | 51.6 | 2,613
Moscow, ID (north) | 47.6 | 1,796
Bitterroot Mountains (east) | 40 | 1,000-1,500
Craig Mountains (south) | 45 | 1,500-1,700
Blue Mountains (west, southwest) | 42 | 1,000-1,500

According to the petition, the average annual temperatures and GDD accumulation that the proposed AVA experiences are within the range required for many varieties of wine grapes to ripen reliably, including Cabernet Franc, Cabernet Sauvignon, Grenache, Malbec, Pinot noir, Syrah, Pinot gris, Riesling, and Zinfandel, all of which are grown within the proposed AVA. By contrast, annual temperatures and GDD accumulations that the surrounding regions experience are too cold to support most viticulture, particularly varieties of V. vinifera, which require at least 2,000 GDDs to ripen successfully. As evidence, the petition notes that Washington State University in Pullman, located in the Palouse region approximately 30 miles northwest of Lewiston, Washington, has had a vigorous wine grape research program for the past 12 years but has yet to succeed in propagating and maintaining research vineyards due to the cold temperatures.

The petition also included the Cool-Climate Viticulture Suitability Index (CCVSI) statistics that were available from the two weather stations located within the proposed AVA and the station in Moscow, Idaho. The CCVSI is the number of days between the last spring temperature below 29 degrees Fahrenheit and the first fall temperature below 29 degrees Fahrenheit. Within the proposed AVA, the CCVSI for the Lewiston Nez Perce station was 234.2 and the CCVSI for the Dworshak Fish Hatchery was 225.2. By contrast, the CCVSI for the Moscow station was 159.5, which means the region north of the proposed AVA has a growing season that is approximately 2 months shorter than that of the proposed AVA. The significantly shorter growing season in the Palouse region does not allow sufficient time for wine grapes to ripen reliably, particularly the varieties of V. vinifera grown within the proposed AVA.

Precipitation: The proposed Lewis-Clark Valley AVA receives less rainfall annually than the surrounding regions. The following table is derived from data submitted in support of the petition and compares the annual precipitation amounts within the proposed AVA to those of the surrounding areas. Precipitation data from the two weather stations within the proposed AVA and from the Moscow, Idaho, station was gathered during 2000 to 2009. The data for the Bitterroot, Craig, and Blue Mountains was calculated using the data mapping system of the PRISM Climate Group at Oregon State University.⁶

⁶ The Parameter-elevation Relationships on Independent Slopes Model (PRISM) climate data mapping system combined climate normals gathered from weather stations, along with other factors such as elevation, longitude, slope angles, and solar aspect to estimate the general climate patterns for the proposed AVA and the surrounding regions. Climate normals are only calculated every 10 years, using 30 years of data, and at the time the petition was submitted, the most recent climate normals available were from the period of 1971-2000.

Location (direction from proposed AVA) | Annual precipitation amounts (inches)
Lewiston Nez Perce weather station (within) | 11.3
Dworshak Fish Hatchery (within) | 22.7
Moscow, Idaho (north) | 25.1
Bitterroot Mountains (east) | 40-70
Craig Mountains (south) | 20-35
Blue Mountains (west, southwest) | 25-50

The proposed AVA's location to the east of the Blue Mountains is the primary factor behind its low precipitation amounts. The Blue Mountains, which rise to elevations over 6,000 feet, intercept storms carried on the westerly jet stream and prevent them from entering the proposed AVA. Most of the annual precipitation within the proposed AVA occurs between November and May, and the region experiences a prolonged summer drought. One viticultural benefit of summer droughts is that grape growers do not have to be concerned about excessive water damaging the roots of the vines. Although growing season precipitation amounts are very small, the petition states that viticulture is able to thrive within the proposed AVA because the winter rains are sufficient to “fill the soil profile,” assuring adequate amounts of soil moisture necessary for bud break and fruit set early in the growing season. By mid-June, the soil is dry enough to induce mild water stress on the vines and slow the growth of canes and leaves, allowing the vines to put their energy into fruit production. Vineyard managers can then control the amount of water added to the soil via drip irrigation, ensuring that the vines receive enough water to survive but not so much as to promote overly vigorous cane or leaf growth or root rot.

Topography

The topography of the proposed Lewis-Clark Valley AVA includes bench lands, low plateaus, and steeply sloping canyon walls. Although the proposed AVA is often referred to as a “valley” because its elevations are lower than those of the surrounding regions, the landscape has been cut into such steep and deep V-notched canyons by the Snake and Clearwater Rivers and their tributaries that almost none of the AVA consists of the broad floodplains typically associated with valley floors. According to the petition, the lack of floodplains within the proposed AVA is beneficial to viticulture because floodplains often have high water tables that limit vine root depth. Floodplains are also susceptible to cold-air pooling that can damage new growth and delay fruit maturation.

Elevations within the proposed Lewis-Clark Valley AVA range from approximately 740 feet along the Snake and Clearwater Rivers to approximately 1,970 feet along most of the proposed AVA's boundary. The average elevation within the proposed AVA is 1,200 feet. According to a table included in the petition, the vineyards within the proposed AVA are planted at elevations between 815 and 1,850 feet. The petition states that at elevations above approximately 1,970 feet, growing season temperatures are too cold to support reliable ripening of V. vinifera and winter freezes can be hard enough to kill dormant vines.

The topography of the surrounding regions is different from that of the proposed Lewis-Clark Valley AVA. To the north, the Palouse is dominated by rounded, gently rolling hills and elevations ranging from approximately 1,000 feet to 2,800 feet, with an average elevation of 2,200 feet. To the east, south, west, and southwest of the proposed AVA are high, rugged mountains cut by deep canyons. Elevations in the Bitterroot Mountains, east of the proposed AVA, range from 3,000 feet to 10,150 feet and average approximately 6,000 feet. To the south, the Craig Mountains range from 2,500 feet to over 5,100 feet and average approximately 3,000 feet. To the west and southwest, the Blue Mountains range from 2,500 feet to over 6,300 feet with an average elevation of approximately 4,000 feet.

Native Vegetation

The native vegetation of the canyon walls, plateaus, terraces, and benches of the proposed Lewis-Clark Valley AVA consists of low shrubs and perennial grasses that have deep masses of fine roots. Although some portions of the eastern half of the proposed AVA are sparsely forested, the understory of the forested regions is covered with perennial grasses. The petition states that the decomposition of the grasses and their roots over the years has contributed to the formation of nutrient-rich soils within the proposed AVA that are high in the organic materials that promote healthy vine growth.

Likewise, to the north of the proposed AVA, the native vegetation of the Palouse consists primarily of perennial grasses. However, most of the native vegetation of the Palouse was cleared in the late 19th and early 20th centuries for large-scale agricultural purposes, such as wheat production, which continue to this day. To the east, south, and west of the proposed AVA, the Bitterroot, Craig, and Blue Mountains are covered with conifer forests. The understories of these conifer forests are typically covered with pine needle litter instead of perennial grasses. The pine needle litter remains on the surface of the soil, unlike the root masses of perennial grasses. Therefore, the organic material released by the decaying pine needle litter does not mix as deeply into the soil as the material released by decaying grass roots. As a result, the soils of the mountainous regions are not as high in organic material and nutrients as the soils within the proposed AVA.

Soils

There are approximately 88 different soil types within the proposed Lewis-Clark Valley AVA. However, approximately 95 percent of the soil types within the proposed AVA belong to the Mollisols soil order. Soils from this order are comprised primarily of decomposed perennial grasses and grass roots and contain a high level of organic matter in the form of humus. The humus accumulates within the soil, rather than just in a layer on top of the soil, due to the decomposition of the dense masses of grass roots. The high levels of organic matter in the soils provide an ample supply of nutrients for vineyards. Most of the cultivated Mollisols soils within the proposed AVA also contain loess, which is comprised of fine-grained particles of nutrient-rich silt that were deposited by wind.

The soils within the proposed AVA are generally thin, having been eroded over the years by the Snake and Clearwater Rivers and their tributaries. As a result, the soils average less than 6 feet in depth before reaching a restrictive subsurface, such as bedrock. The shallowness of the soils limits the depths of roots and prevents overly vigorous cane and leaf development.

According to the petition, the Mollisols soils within the proposed AVA have the highest available water holding capacity (AWC) of any known soil texture class. AWC is the ability of soil to store rainfall and irrigation water. The soils within the proposed AVA can store approximately 2.4 inches of water per foot of soil. In regions that receive high amounts of annual rainfall, soils with high AWC may not be suitable for viticulture because excessive amounts of stored water promote root rot, mildew, and fungal diseases. However, because the proposed AVA has very low annual rainfall amounts and receives most of its rainfall outside the growing season, the amount of water stored in the soil is not excessive and does not pose a risk to the health of the vines.

The soils of the surrounding regions differ from those of the proposed Lewis-Clark Valley AVA. To the north, the soils of the Palouse are also loess-derived Mollisols, but the soils reach depths of up to 12 feet, which is much deeper than the soil depth of the proposed AVA. In the mountainous regions to the east, south, west, and southwest of the proposed AVA, the soils also are deeper than within the proposed AVA. Even though the surrounding mountain slopes are steep, the soils have not eroded like the soils of the proposed AVA because the dense conifer forests have held much of the soil in place. Soils in the regions to the east, south, west, and southwest of the proposed AVA are mostly of the Andisols order and are derived from volcanic ash and other material produced by volcanic eruptions. Unlike the Mollisols of the proposed AVA, Andisols soils contain only small amounts of organic matter because the humus is derived from the decomposition of leaf litter resting on the soil's surface, rather than from masses of grass roots decomposing deep within the soil.

Summary of Distinguishing Features

In summary, the climate, topography, native vegetation, and soils of the proposed Lewis-Clark Valley AVA distinguish it from the surrounding areas. In all directions outside the proposed AVA, the temperatures are cooler, the growing degree day accumulations are smaller, rainfall is higher, and the elevations are higher. The steep canyon walls, plateaus, and bench lands of the proposed AVA are different from the rounded, rolling hills of the Palouse region to the north and the rugged Bitterroot, Craig, and Blue Mountains that surround the proposed AVA to the east, south, and west. Perennial grasses and shrubs are the primary vegetation within the proposed AVA, whereas the majority of the native vegetation to the north of the proposed AVA has been cleared for agricultural purposes, and the regions to the east, south, and west are covered with coniferous forests. Finally, the soils of the proposed Lewis-Clark Valley AVA are thin, loess-derived Mollisols soils, which are shallower than the Mollisols soils of the Palouse region to the north and distinct from the volcanic Andisols soils found to the east, south, and west.

Proposed Modification of the Columbia Valley AVA

As previously noted, the petitioner requested a modification of the boundary of the established Columbia Valley AVA. The Columbia Valley AVA is located in central and eastern Washington and northern Oregon. The proposed Lewis-Clark Valley AVA spans the Idaho-Washington border and, as proposed, would partially overlap the southeastern corner of the Columbia Valley AVA near the communities of Clarkston, Vineland, and Asotin, Washington. The proposed boundary modifications would reduce the size of the Columbia Valley AVA by approximately 57,020 acres (approximately 0.5 percent) and would eliminate the potential overlap between the proposed AVA and the existing AVA.

If the boundary modification is approved, the area of the potential overlap would be included exclusively within the proposed Lewis-Clark Valley AVA. Wines produced primarily from grapes grown within the removed region would no longer be eligible for labeling with the “Columbia Valley” appellation. There is currently one vineyard, Arnett Vineyard, within the region of the proposed boundary modification. The petition included a letter of support from the owners of that vineyard, stating their support for the proposed Columbia Valley AVA boundary modification and the establishment of the proposed Lewis-Clark Valley AVA.

Overview of the Columbia Valley AVA

The 11,370,320-acre Columbia Valley AVA was established by T.D. ATF-190, which was published in the Federal Register on November 13, 1984 (49 FR 44897), and codified at 27 CFR 9.74. The Columbia Valley AVA is a large, treeless basin surrounding the Columbia, Snake, and Yakima Rivers in Washington and Oregon. T.D. ATF-190 states that the Columbia Valley AVA has a growing season between 150 and 204 days and annual rainfall of less than 15 inches. The topography of the AVA is characterized by its broadly undulating hills cut by rivers and broken by sloping basaltic uplifts.

T.D. ATF-190 made no comparisons of the Columbia Valley AVA to the area identified in this proposed rule as the Idaho portion of the proposed Lewis-Clark Valley AVA.

Comparison of Distinguishing Features Within the Proposed Realignment Area to the Columbia Valley AVA

The region of the proposed boundary modification is located in the southeastern portion of the Columbia River Valley AVA, along the Snake River and near the towns of Clarkson, Vineland, and Asotin, Washington. The petition emphasizes that the region proposed to be removed from the Columbia Valley AVA (hereinafter referred to as the proposed realignment area) has topography and soils that are more similar to those of the proposed Lewis-Clark AVA than to those of the existing AVA.

The topography of the proposed realignment area is consistent with that of the proposed Lewis-Clark Valley AVA. The average elevation of both the proposed realignment area and the proposed Lewis-Clark Valley AVA is 1,200 feet, which is higher than the Columbia Valley AVA's average elevation of 700 feet. The proposed realignment area, like the proposed Lewis-Clark Valley AVA, consists of steep, V-shaped canyons, low plateaus, and bench lands along the Snake River and its tributaries. By contrast, the majority of the Columbia Valley AVA is a broad basin with a gently rolling surface. The petition notes that the Columbia River Valley AVA contains rugged, canyon-like coulees and broad, flat-floored “channeled scablands.” However, the coulees and scablands were created by cataclysmic glacial floods from the ancient Lake Missoula, whereas the canyon of the proposed realignment area and the proposed AVA was carved over time by the flow of the Snake River. The coulees and scablands also are generally shallower and have broad, flat floors, as compared to the deep, steeply-sloped V-shaped canyons and narrow valley floors of the proposed realignment area and the proposed Lewis-Clark Valley AVA.

The soils of the proposed realignment area also are different from the soils of the Columbia Valley AVA. Within the proposed realignment area, most of the soils are from the Mollisols order, as are the soils within the proposed Lewis-Clark Valley AVA. By contrast, approximately 80 percent of Columbia Valley AVA soils are Aridisols and Entisols. Aridisols and Entisols soils generally contain less than 1 percent organic matter, compared to the humus-rich soils of the Mollisols order. Aridisols and Entisols soils also generally have lower water-holding capacities due to their coarse or gravelly textures, whereas the loamy Mollisols soils of both the proposed realignment area and proposed AVA have greater water-holding capacities. Finally, Aridisols and Entisols soils are generally alkaline, compared to the slightly acidic Mollisols soils. Although the petition states that some Mollisols soils exist within the Columbia Valley AVA, they generally occur at high elevations that are too cold to support V. vinifera.

In addition to the physical features that distinguish the proposed realignment area from the Columbia Valley AVA and unite it with the proposed Lewis-Clark Valley AVA, the petition included evidence that the proposed realignment area is strongly associated with the name “Lewis-Clark Valley,” rather than the “Columbia Valley” name. For example, three of the businesses in the “Name Evidence” section of this proposed rule (the Lewis-Clark Terminal, Lewis-Clark Credit Union, and Lewis-Clark Dental Clinic) are located within the proposed realignment area. Additionally, all of the organizations listed in the “Name Evidence” section serve residents of the proposed AVA as well as the proposed realignment area, further demonstrating that the proposed realignment area is strongly associated with the region known as the Lewis-Clark Valley.

TTB Determination

TTB concludes that the petition to establish the approximately 306,650-acre “Lewis-Clark Valley” American viticultural area and to concurrently modify the boundary of the existing Columbia Valley AVA merits consideration and public comment, as invited in this document.

TTB is proposing the establishment of the new viticultural area and the modification of the existing AVA as one action. Accordingly, if TTB establishes the proposed Lewis-Clark Valley AVA, then the proposed boundary modification of the Columbia Valley AVA would be approved concurrently. If TTB does not establish the proposed Lewis-Clark Valley AVA, then the present Columbia Valley AVA boundary would not be modified as proposed in this document.

Boundary Description

See the narrative description of the boundary of the petitioned-for AVA and the boundary modification of the established AVA in the proposed regulatory text published at the end of this document.

Maps

The petitioner provided the required maps, and TTB lists them below in the proposed regulatory text.

Impact on Current Wine Labels

Part 4 of the TTB regulations prohibits any label reference on a wine that indicates or implies an origin other than the wine's true place of origin. If TTB establishes this proposed viticultural area, its name, “Lewis-Clark Valley,” would be recognized as a name of viticultural significance under § 4.39(i)(3) of the TTB regulations (27 CFR 4.39(i)(3)). The text of the proposed regulation clarifies this point.

If this proposed regulatory text is adopted as a final rule, wine bottlers using “Lewis-Clark Valley” in a brand name, including a trademark, or in another label reference as to the origin of the wine, would have to ensure that the product is eligible to use the AVA's full name “Lewis-Clark Valley” as an appellation of origin. If approved, the establishment of the proposed Lewis-Clark Valley AVA and the proposed modification of the Columbia Valley AVA boundary would allow vintners to use “Lewis-Clark Valley” as appellations of origin for wines made from grapes grown within the Lewis-Clark Valley AVA, if the wines meet the eligibility requirements for the appellation.

Use of “Columbia Valley” as an Appellation of Origin

If the proposed Lewis-Clark Valley AVA and the corresponding modification of the Columbia Valley AVA boundary are approved, bottlers currently using “Columbia Valley” as an appellation of origin for wine produced primarily from grapes grown in the area removed from the Columbia Valley AVA would no longer be able to use “Columbia Valley” as an appellation of origin, but could use the term “Lewis-Clark Valley” in the brand name if otherwise eligible. See the “Transition Period” section of this document for more details.

Bottlers currently using “Columbia Valley” as an appellation of origin or in a brand name for wine produced from grapes grown within the current, and if modified, Columbia Valley AVA would still be eligible to use the term as an appellation of origin or in a brand name.

Transition Period

If the proposals to establish the Lewis-Clark Valley AVA and to modify the boundary of the Columbia Valley AVA are adopted as a final rule, a transition rule will apply to labels for wines produced from grapes grown in the area removed from the Columbia Valley AVA. A label containing the words “Columbia Valley” in the brand name or as an appellation of origin may be used on wine bottled within two years from the effective date of the final rule, provided that such label was approved prior to the effective date of the final rule and that the wine conforms to the standards for use of the label set forth in 27 CFR 4.25 or 4.39(i) in effect prior to the final rule. At the end of this two-year transition period, if a wine is no longer eligible for labeling with the “Columbia Valley” AVA name (e.g., it is primarily produced from grapes grown in the area removed from the Columbia Valley AVA), then a label containing the words “Columbia Valley” in the brand name or as an appellation of origin would not be permitted on the bottle. TTB believes that the two-year period should provide affected label holders with adequate time to use up any existing labels. This transition period is described in the proposed regulatory text for the Columbia Valley AVA published at the end of this notice.

TTB notes that wine eligible for labeling with the “Columbia Valley” AVA name under the proposed new boundary of the Columbia Valley AVA will not be affected by this two-year transition period. Furthermore, if TTB does not approve the proposed boundary modification, then all wine label holders currently eligible to use the “Columbia Valley” AVA name would be allowed to continue to use their labels as originally approved.

Public Participation

Comments Invited

TTB invites comments from interested members of the public on whether TTB should establish the proposed Lewis-Clark Valley AVA and concurrently modify the boundary of the established Columbia Valley AVA. TTB is interested in receiving comments on the sufficiency and accuracy of the name, boundary, climate, topography, soils, and other required information submitted in support of the Lewis-Clark Valley AVA petition. Please provide any available specific information in support of your comments.

TTB also invites comments on the proposed modification of the existing Columbia Valley AVA. TTB is especially interested in comments on whether the evidence provided sufficiently differentiates the proposed realignment area from the existing Columbia Valley AVA. Comments should address the name usage, boundaries, climate, topography, soils, and any other pertinent information that supports or opposes the proposed boundary modification.

Because of the potential impact of the establishment of the proposed Lewis-Clark Valley AVA on wine labels that include the term “Lewis-Clark Valley,” as discussed above under Impact on Current Wine Labels, TTB is particularly interested in comments regarding whether there will be a conflict between the proposed area name and currently used brand names. If a commenter believes that a conflict will arise, the comment should describe the nature of that conflict, including any anticipated negative economic impact that approval of the proposed AVA will have on an existing viticultural enterprise. TTB also is interested in receiving suggestions for ways to avoid conflicts, for example, by adopting a modified or different name for the AVA.

Submitting Comments

You may submit comments on this proposal by using one of the following three methods:

• Federal e-Rulemaking Portal: You may send comments via the online comment form posted with this document within Docket No. TTB-2015-0005 on “Regulations.gov,” the Federal e-rulemaking portal, at http://www.regulations.gov. A direct link to that docket is available under Notice No. 149 on the TTB Web site at http://www.ttb.gov/wine/wine-rulemaking.shtml. Supplemental files may be attached to comments submitted via Regulations.gov. For complete instructions on how to use Regulations.gov, visit the site and click on the “Help” tab at the top of the page.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this document. Your comments must reference Notice No. 149 and include your name and mailing address. Your comments also must be made in English, be legible, and be written in language acceptable for public disclosure. We do not acknowledge receipt of comments, and we consider all comments as originals.

Your comment must clearly state if you are commenting on your own behalf or on behalf of an organization, business, or other entity. If you are commenting on behalf of an organization, business, or other entity, your comment must include the entity's name, as well as your name and position title. If you comment via Regulations.gov, please enter the entity's name in the “Organization” blank of the online comment form. If you comment via postal mail, please submit your entity's comment on letterhead.

You also may write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2015-0005 on the Federal e-rulemaking portal, Regulations.gov, at http://www.regulations.gov. A direct link to that docket is available on the TTB Web site at http://www.ttb.gov/wine/wine-rulemaking.shtml under Notice No. 149. You also may reach the relevant docket through the Regulations.gov search page at http://www.regulations.gov. For instructions on how to use Regulations.gov, visit the site and click on the “Help” tab at the top of the page.

All posted comments will display the commenter's name, organization (if any), city, and State, and, in the case of mailed comments, all address information, including email addresses. TTB may omit voluminous attachments or material that it considers unsuitable for posting.

You also may view copies of this document, all related petitions, maps and other supporting materials, and any electronic or mailed comments we receive about this proposal by appointment at the TTB Information Resource Center, 1310 G Street NW., Washington, DC 20005. You also may obtain copies at 20 cents per 8.5- x 11-inch page. Please note that TTB is unable to provide copies of USGS maps or other similarly-sized documents that may be included as part of the AVA petition. Contact our information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, it requires no regulatory assessment.

Drafting Information

Karen A. Thornton of the Regulations and Rulings Division drafted this document.

List of Subjects in 27 CFR Part 9

Wine.

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Amend § 9.74 by revising paragraph (b) and paragraphs (c)(38) through (c)(40) and by adding paragraph (d) to read as follows:

§ 9.74 Columbia Valley.

* * * * *

(b) Approved maps. The approved maps for determining the boundary of the Columbia Valley viticultural area are nine 1:250,000 scale U.S.G.S. maps and one 1:100,000 (metric) scale U.S.G.S. map. They are entitled:

(1) Concrete, Washington, U.S.; British Columbia, Canada, edition of 1955, limited revision 1963;

(2) Okanogan, Washington, edition of 1954, limited revision 1963;

(3) Pendleton, Oregon, Washington, edition of 1954, revised 1973;

(4) Pullman, Washington, Idaho, edition of 1953, revised 1974;

(5) Clarkston, Washington, Idaho, Oregon, 1:100,000 (metric) scale, edition of 1981;

(6) Ritzville, Washington, edition of 1953, limited revision 1965;

(7) The Dales, Oregon, Washington, edition of 1953, revised 1971;

(8) Walla Walla, Washington, Oregon, edition of 1953, limited revision 1963;

(9) Wenatchee, Washington, edition of 1957, revised 1971; and

(10) Yakima, Washington, edition of 1958, revised 1971.

(c) * * *

(38) Then south following the Washington-Idaho State boundary on the 1:100,000 (metric) scale Clarkston, Washington, Idaho, Oregon map to the 600-meter elevation contour along the eastern boundary of section 9, R. 46 E./T. 11 N.; and then generally west following the meandering 600-meter contour to the eastern boundary of section 17, R. 45E./T. 11N.; then south following the eastern boundary of section 17 to the southern boundary of section 17; and then west following the southern boundaries of sections 17 and 18 to the Asotin-Garfield county line in section 19, R. 45E./T. 11N.;

(39) Then south following the Garfield-Asotin county line to the 600-meter elevation contour; then following generally west and south in a counterclockwise direction along the meandering 600-meter elevation contour to Charley Creek in section 4, R. 44 E./T. 9 N.; and then west following Charley Creek on to the township line between R. 42 E. and R. 43 E.;

(40) Then north following the township line between R. 42 E. and R. 43 E. on the 1:250,000 scale “Pullman, Washington, Idaho” map to Washington Highway 128 at Peola;

* * * * *

(d) Transition period. A label containing the words “Columbia Valley” in the brand name or as an appellation of origin approved prior to [EFFECTIVE DATE OF THE FINAL RULE] may be used on wine bottled before [DATE 2 YEARS FROM EFFECTIVE DATE OF THE FINAL RULE] if the wine conforms to the standards for use of the label set forth in § 4.25 or § 4.39(i) of this chapter in effect prior to [EFFECTIVE DATE OF THE FINAL RULE].

3. Add § 9.___to read as follows:

§ 9.___ Lewis-Clark Valley.

(a) Name. The name of the viticultural area described in this section is “Lewis-Clark Valley”. For purposes of part 4 of this chapter, “Lewis-Clark Valley” is a term of viticultural significance.

(b) Approved maps. The three United States Geographical Survey (USGS) 1:100,000 (metric) scale topographic maps used to determine the boundary of the Lewis-Clark Valley viticultural area are titled:

(1) Clarkston, Wash.-Idaho-Oregon, 1981;

(2) Orofino, Idaho-Washington, 1981; and

(3) Potlatch, Idaho, 1981.

(c) Boundary. The Lewis-Clark Valley viticultural area is located in Nez Perce, Lewis, Clearwater, and Latah Counties, Idaho, and Asotin, Garfield, and Whitman Counties, Washington. The boundary of the Lewis-Clark Valley viticultural area is as follows:

(1) The beginning point is located on the Clarkston map in Washington State along the Garfield-Asotin County line at the southwest corner of section 18, T11N/R45E. From the beginning point, proceed east along the southern boundary line of section 18, crossing over the Snake River, and continue along the southern boundary line of section 17, T11N/R45E, to the southeast corner of section 17; then

(2) Proceed north along the eastern boundary line of section 17 to the 600-meter elevation contour; then

(3) Proceed generally east-northeast along the meandering 600-meter elevation contour, crossing into Idaho and onto the Orofino map, then continue to follow the elevation contour in an overall clockwise direction, crossing back and forth between the Orofino and Clarkston maps and finally onto the Potlatch map, and then continuing to follow the 600-meter elevation contour in a clockwise direction to the elevation contour's intersection with the southern boundary line of section 1, T37N/R1W, on the Potlatch map, north of the Nez Perce Indian Reservation boundary and west of the Dworshak Reservoir (North Fork of the Clearwater River) in Clearwater County, Idaho; then

(4) Cross the Dworshak Reservoir (North Fork of the Clearwater River) by proceeding east along the southern boundary line of section 1, T37N/R1E, to the southeastern corner of section 1; then by proceeding north along the eastern boundary line of section 1 to the southwest corner of section 6, T37N/R2E; and then by proceeding east along the southern boundary line of section 6 to the 600-meter elevation contour; then

(5) Proceed generally east initially, then generally south, and then generally southeast along the meandering 600-meter elevation contour, crossing onto the Orofino map, and then continuing to follow the elevation contour in an overall clockwise direction, crossing back and forth between the Orofino and Potlatch maps, to the eastern boundary of section 13, T35N/R2E, on the Orofino map in Clearwater County, Idaho; then

(6) Proceed south along the eastern boundary of section 13, T35N/R2E, to the southeastern corner of section 13, T35N/R2E, northeast of Lolo Creek; then

(7) Proceed west along the southern boundary line of section 13, T35N/R2E, to the Clearwater-Idaho County line in the middle of Lolo Creek; then

(8) Proceed generally west-northwest along the Clearwater-Idaho County line (concurrent with Lolo Creek) to the Lewis County line at the confluence of Lolo Creek and the Clearwater River; then

(9) Proceed generally south along the Lewis-Idaho County line (concurrent with the Clearwater River) to the northern boundary line of section 23, T35N/R2E; then

(10) Proceed west along the northern boundary line of section 23, T35N/R2E, to the 600-meter elevation contour; then

(11) Proceed generally northwest along the meandering 600-meter elevation contour, crossing onto the Potlatch map and then back onto the Orofino map and continuing generally southwest along the 600-meter elevation contour to the common T32N/T31N township boundary line along the southern boundary line of section 35, T32N/R5W, south of Chimney Creek (a tributary of the Snake River) in Nez Perce County, Idaho; then

(12) Proceed west along the common T32N/T31N township boundary line, crossing Chimney Creek, to the Idaho-Washington State line (concurrent with the Nez Perce-Asotin County line) at the center of the Snake River; then

(13) Proceed generally southeast along the Idaho-Washington State line in the Snake River to the northern boundary line of section 29, T31N/R5W; then

(14) Proceed west along the northern boundary line of section 29, T31N/R5W, to the 600-meter elevation contour, northeast of Lime Hill in Asotin County, Washington; then

(15) Proceed generally west and then generally south-southwest along the meandering 600-meter elevation contour to the southern boundary line of section 25, T7N/R46E; then

(16) Proceed west along the southern boundary lines of section 25 and 26, crossing onto the Clarkston map, and continuing along the southern boundary lines of section 26 to the 600-meter elevation contour west of Joseph Creek; then

(17) Proceed southeast along the meandering 600-meter elevation contour to the western boundary line of section 34, T7N/R46E; then

(18) Proceed north along the western boundary lines of sections 34 and 27, T7N/R46E, crossing over the Grande Ronde River, to the 600-meter elevation contour; then

(19) Proceed generally northeast along the meandering 600-meter elevation contour and continue along the 600-meter elevation contour in a clockwise direction, crossing back and forth between the Clarkston and Orofino maps, until, on the Clarkston map, the 600-meter elevation line intersects the Garfield-Asotin County line for the third time along the western boundary of section 19, T11N/R45E; and then

(20) Proceed north along the Garfield-Asotin County line, returning to the beginning point.

Signed: April 7, 2015.
John J. Manfreda,
Administrator.

[FR Doc. 2015-08501 Filed 4-13-15; 8:45 am]

BILLING CODE 4810-31-P